ENVIRONMENTAL PROTECTION AGENCY

[ER-FRL-9032-2]

Environmental Impact Statements; Notice of Availability

Responsible Agency: Office of Federal Activities, General Information (202) 564-7146 or http://www.epa.gov/nepa.

Weekly receipt of Environmental Impact Statements (EISs),

Filed 03/06/2017 Through 03/10/2017.

Pursuant to 40 CFR 1506.9.

Notice

Section 309(a) of the Clean Air Act requires that EPA make public its comments on EISs issued by other Federal agencies. EPA's comment letters on EISs are available at: http://www.epa.gov/compliance/nepa/eisdata.html.

EIS No. 20170032, Draft, USFS, OR, Ringo Project, Comment Period Ends: 05/01/2017, Contact: Lillian Cross, 541-433-3200.

EIS No. 20170033, Draft, BPA, WA, Melvin R. Sampson Hatchery Yakima Basin Coho Project, Comment Period Ends: 05/01/2017, Contact: Dave Goodman, 503-230-4764.

EIS No. 20170034, Draft, USFS, CA, Trinity Post Fire Hazard Reduction and Salvage, Comment Period Ends: 05/01/2017, Contact: Thomas Hall, 530-628-1200.

EIS No. 20170035, Final Supplement, USFS, ID, Johnson Bar Fire Salvage, Review Period Ends: 04/17/2017, Contact: Tam White, 208-926-6416.

EIS No. 20170036, Final, USFS, AK, Shoreline II Outfitter/Guide, Review Period Ends: 04/17/2017, Contact: Carey Case, 907-772-5906.

Amended Notices

EIS No. 20160261, Draft, USFS, ID, Coeur d Alene Basin Natural Resource Restoration Plan, Comment Period Ends: 04/17/2017, Contact: Jo Christensen, 208-765-7417.

Revision to FR Notice Published 11/10/2016; Reopening Comment Period to End 04/17/2017.

EIS No. 20170002, Draft, DOE, CA, Remediation of Area IV and the Northern Buffer Zone of the Santa Susana Field Laboratory, Comment Period Ends: 04/13/2017, Contact: Stephie Jennings, 1-805-842-3864.

Revision to FR Notice Published 01/13/2017; Extending the Comment Period from 03/14/2017 to 04/13/2017.

EIS No. 20170004, Draft, USFWS, NPS, WA, North Cascades Ecosystem Draft Grizzly Bear Restoration Plan, Comment Period Ends: 04/28/2017, Contact: Karen Taylor-Goodrich, 360-854-7205.

Revision to FR Notice Published 01/13/2017; Extending the Comment Period from 03/14/2017 to 04/28/2017.

EIS No. 20170031, Draft, USFS, ID, Big Creek Hot Springs Geothermal Leasing, Comment Period Ends: 05/01/2017, Contact: Julie Hopkins, 208-756-5279.

Revision to FR Notice Published 03/10/2017; Reestablish the Comment Period to End 05/01/2017.

Dated: March 14, 2017.
Dawn Roberts,
Management Analyst, NEPA Compliance Division, Office of Federal Activities.

[FR Doc. 2017-05375 Filed 3-16-17; 8:45 am]

BILLING CODE 6560-50-P